DEPARTMENT OF THE INTERIOR

National Park Service

National Register of Historic Places; Notification of Pending Nominations and Related Actions

Nominations for the following properties being considered for listing or related actions in the National Register were received by the National Park Service before February 16, 2008. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th Floor, Washington, DC 20005; or by fax, 202-371-6447. Written or faxed comments should be submitted by March 18, 2008.

J. Paul Loether,
Chief, National Register of Historic Places/National Historic Landmarks Program.

CALIFORNIA

Los Angeles County

Holmes—Shannon House, 4311 Victoria Park Dr., Los Angeles, 08000202.

San Luis Obispo County

Ah Louis Store, 800 Palm St., San Luis Opispo, 08000203.

COLORADO

Conejos County

McIntire Ranch, Approx. 1.5 mi. N. of Co. Rd. V, Sanford, 08000204.

FLORIDA

Lee County

Gasparilla Inn Historic District, 500 Palm Ave., Boca Grande, 08000205.

HAWAII

Honolulu County

Hibiscus Place, 2954 & 2956 Hibiscus Pl., Honolulu, 08000206.

Liljestrand House, 3300 Tantalus Dr., Honolulu, 08000207.

KENTUCKY

Boone County

Green, M.B., Site, Address Restricted, Petersburg, 08000208.

Bourbon County

Johnston's Inn, 1975 Georgetown Rd., Paris, 08000209.

Kenton County

Feltman Mound, Address Restricted, Taylor Mill, 08000210.

Park Hills Historic District, (Historic Residential Suburbs in the United States, 1830-1960 MPS) Roughly bounded by Dixie Hwy., Montague, Breckenridge, Sleepy Hollow, Old State & Arington Rds. & St. James Ave., Park Hills, 08000211.

Ohio County

Dundee Masonic Lodge No. 733, 11640 KY 69 N., Dundee, 08000213.

Oldham County

Ashbourne Farms, 3800 Old Westport Rd., LaGrange, 08000212.

Warren County

Rose-Daughtry Farmstead, 6487 Louisville Rd., Bristow, 08000214.

Wayne County

Fairchild House, 302 S. Main St., Monticello, 08000215.

MARYLAND

Dorchester County

Handsell, 4835 Vienna Rhodesdale Rd., Vienna, 08000216.

Howard County

Richland Farm, 4730 Sheppard Ln., Clarksville, 08000217.

MICHIGAN

Calhoun County

Central National Tower, 70 W. Michigan Ave., Battle Creek, 08000218.

Genesee County

Berridge Hotel, 421 Garland St., Flint, 08000219.

Tinlinn Apartments, 413 Garland St., Flint, 08000220.

Houghton County

Smith-Dengler House, 58555 U.S. 41 (Calumet Township), Wolverine, 08000221.

Leelanau County

Empire School, 10017 W. Front St., Empire, 08000222.

Oakland County

Endicott, John & Mary Elizabeth Booth, House, 290 Chesterfield, Bloomfield Hills, 08000223.

Ottawa County

Hudsonville Christian School, 5692 School Ave., Hudsonville, 08000224.

Wayne County

Woodbridge Neighborhood (Boundary Increase II), SE. corner of Trumbull & Warren, Detroit, 08000225.

MISSOURI

Cape Girardeau County

Ponder, Abraham Russell, House, 141 S. Louisiana Ave., Cape Girardeau, 08000226.

St. Louis County

Clayton Park Addition, 7901-8027 Bennett Ave. & 1221-1282 Laclede Station Rd., Richmond Heights, 08000228.

Hammerman, Harry, House, 219 Graybridge Ln., Ladue, 08000227.

NEVADA

Clark County

Old Spanish Trail—Mormon Road Historic District (Boundary Increase), Near jct. of I 15 & NV 169, Moapa, 08000229.

NEW MEXICO

Colfax County

Original Townsite Historic District, Roughly bounded by Clark & Cimmaron Aves., S. 2nd & S. 7th Sts., Raton, 08000230.

NEW YORK

Jefferson County

East Charity Shoal Light, (Light Stations of the United States MPS) NE. L. Ontario at US-Canada boundary 9.5 mi. SW. of Cape Vincent, Cape Vincent, 08000231.

NORTH DAKOTA

Pembina County

Gunlogson Farmstead Historic Site, 13571 ND 5, Cavalier, 08000232.

Walsh County

District No. 70—Hoff Rural School, Fire No. 6591 123rd Ave. NE. (Norton Township), Adams, 08000233.

RHODE ISLAND

Newport County

Paradise Farm, 583 Third Beach Rd., Middletown, 08000234.

TENNESSEE

Bradley County

Cleveland Southern Railway Depot, 175 Edwards St., Cleveland, 08000235.

Marion County

McNabb Mines, River Canyon Rd. between Tennessee R. miles 438 & 439, Haletown, 08000236.

Robertson County

Bell Witch Cave, 430 Keysburg Rd., Adams, 08000237.

Washington County

Carolina, Clinchfield & Ohio Railroad Station and Depot, 300 Buffalo St., Johnson City, 08000238.

TEXAS

Bexar County

St. Louis Hall at St. Mary's University, 1 Camino Santa Maria, San Antonio, 08000239.

Comal County

Brauntex Theater, 290 W. San Antonio, New Braunfels, 08000240.

McLennan County

Waco Drug Company, 225 S. 5th St., Waco, 08000241.

VIRGINIA

Fredericksburg Independent city

Elmhurst, 2010 Fall Hill Ave., Fredericksburg (Independent City), 08000242.

Henrico County

Edge Hill, Address Restricted, Richmond, 08000243.

Mathews County

James, Thomas, Store, Old, Main & Maple Sts., Mathews Court House, 08000244.

Petersburg Independent city

People's Memorial Cemetery, (African-American Cemeteries in Petersburg, Virginia MPS) 334 S. Crater Rd., Petersburg (Independent City), 08000245.

Prince William County

Buckland Historic District (Boundary Increase), Parts of Buckland Mill & Cerro Gordo Rds., & U.S. 29/15, Gainsville, 08000246.

Evergreen, 15900 Berkeley Dr., Haymarket, 08000247.

WISCONSIN

Brown County

Green Bay Harbor Entrance Light, (Light Stations of the United States MPS) Offshore approx. 3.1 mi. NW. of Port Comfort (Scott Township), Port Comfort, 08000248.

A request for REMOVAL has been made for the following resources:

INDIANA

Floyd County

Yenowine-Nichols-Collins House 5118 IN 64, New Albany, 75000017.

SOUTH DAKOTA

Aurora County

South Dakota Department of Transportation Bridge No. 02-007-220 (Historic Bridges in South Dakota MPS) Local Rd. over Platte City, White Lake vicinity, 99001338.

Brookings County

Beals, William H. and Elizabeth, House 1302 Sixth St., Brookings, 92000685.

South Dakota Department of Transportation Bridge No. 06-131-040 (Historic Bridges in South Dakota MPS) Local Rd. over Big Sioux R., Bruce vicinity, 99001432.

Brown County

South Dakota Department of Transportation Bridge No. 07-091-330 (Historic Bridges in South Dakota MPS) Cty Highway over State of South Dakota RR tracks, Aberdeen vicinity, 00000183.

Butte County

Nisland Bridge (Rural Butte and Meade Counties MRA) S. of Nisland on Section Rd., Nisland vicinity, 86000936.

Olson Bridge (Rural Butte and Meade Counties MRA) NE. of Belle Fourche, Belle Fourche vicinity, 86000924.

Vale Cut off Belle Fourche River Bridge (Rural Butte and Meade Counties MRA) 7 mi. SW. of Newell, Belle Fourche, 86000937.

Buffalo County

Buffalo County Courthouse and Jail House, Old 100 Main St., Gann Valley, 02000707.

Clay County

South Dakota Department of Transportation Bridge No. 14-105-209 (Historic Bridges in South Dakota MPS) Local Rd. over Chicago, Milwaukee, St. Paul and Pacific Railroad Tracks, Vermillion vicinity, 99001690.

South Dakota Department of Transportation Bridge No. 14-120-222 (Historic Bridges in South Dakota MPS) Local Rd. over Ash Creek, Wakonda vicinity, 99001218.

Gregory County

South Dakota Department of Transportation Bridge No. 27-000-201 (Historic Bridges in South Dakota MPS) Local rd. over unnamed cr., Dallas vicinity, 93001289.

Hanson County

South Dakota Department of Transportation Bridge No. 31-115-110 (Historic Bridges in South Dakota MPS) Local rd. of Pierre Cr., Fulton vicinity, 93001294.

Lincoln County

South Dakota Department of Transportation Bridge No. 42-103-207 (Historic Bridges in South Dakota MPS) Local Rd. over Local Cr., Beresford vicinity, 99001688.

McCook County

South Dakota Department of Transportation Bridge No. 44-028-220 (Historic Bridges in South Dakota MPS) Local rd. over Wolf Cr., Bridgewater vicinity, 93001301.

Minnehaha County

Bridge No. 50-122-155—Brandon vicinity (Historic Bridges in South Dakota MPS) Local Rd. over Skunk Creek, Brandon Township vicinity, 99000956.

South Dakota Department of Transportation Bridge No. 50-192-132

(Historic Bridges in South Dakota MPS) Local Rd. over Big Sioux R. (Mapleton Township), Renner vicinity, 99001694.

Summit Avenue Viaduct (Historic Bridges in South Dakota MPS) Summit Ave. over the Chicago and North Western RR tracks, Sioux Falls, 93001307.

Moody County

Sioux River Bridge (Historic Bridges in South Dakota MPS) 3rd St. over Big Sioux R., Trent, 99001696.

South Dakota Department of Transportation Bridge No. 51-140-078 (Historic Bridges in South Dakota MPS) Local Rd. over Big Sioux R, Flandreau vicinity, 99001698.

Perkins County

South Dakota Department of Transportation Bridge No. 53-101-196 (Historic Bridges in South Dakota MPS) Local Rd. over South Fork Grand R., Bison vicinity, 99001341.

Sanborn County

South Dakota Department of Transportation Bridge No. 56-117-123 (Historic Bridges in South Dakota MPS) Local Rd. over the James R., Forestburg vicinity, 93001311.

Spink County

Hall Bridge (Historic Bridges in South Dakota MPS) Local rd. over Snake Cr., Ashton vicinity, 93001317.

Turner County

South Dakota Department of Transportation Bridge No. 63-177-160 (Historic Bridges in South Dakota MPS) Local Rd. over Turkey Ridge Creek, Hurley vicinity, 99001211.

South Dakota Department of Transportation Bridge No. 63-186-020 (Historic Bridges in South Dakota MPS) Local Rd. over Long Creek, Parker vicinity, 99001214.

Yankton County

Walnut Street Bridge (Historic Bridges in South Dakota MPS) Walnut St. over Marne Cr., Yankton, 99001692.

TENNESSEE

Davidson County

Evergreen Place 1023 Joyce Ln., Nashville, 82003961.

[FR Doc. E8-3975 Filed 2-29-08; 8:45 am]

BILLING CODE 4312-51-P